DEPARTMENT OF ENERGY

Golden Field Office; Peer Review of DOE's Photovoltaic Program

AGENCY: Department of Energy.

ACTION: Announcement of a peer review of the Department of Energy's (DOE's) Photovoltaic Program.

SUMMARY: The U.S. Department of Energy (DOE), Office of Power Technology is announcing its intention to conduct a Peer Review of DOE's Photovoltaic Program August 6th and 7th, 2001 in Golden, Colorado at the Denver Marriott West.

DATES: Monday, August 6th, 2001 from 8:00 am-5:30 pm (MDT) and Tuesday, August 7th, 2001 from 8:00 am-4:30 pm (MDT).

ADDRESSES: Denver Marriott West, 1717 Denver West Parkway, Golden, CO 80401.

FOR FURTHER INFORMATION CONTACT: Jeffrey Mazer, Department of Energy, (202) 586-2455, via facsimile at (202) 586-8148 or electronically at Jeffrey.Mazer@hq.doe.gov.

SUPPLEMENTARY INFORMATION: The DOE Photovoltaic (PV) Program recognizes that achievement of aggressive technical goals is a formidable task that requires a highly directed and carefully monitored program of research and development, in partnership with the national laboratories, universities, and industry. Program management not only requires that the progress of all research participants be constantly monitored, but that the overall balance of program activities and relevance of the research be evaluated, particularly in view of limited budgets and multiple priorities. With this in mind, the Program conducts a series of ongoing review activities aimed at guiding the Program toward achievement of the long-term goals. From time to time, the Program has also benefited from independent reviews conducted by other organizations, which provided valuable feedback on the research progress, relevance, and priorities, as well as an assessment of the Program's own processes for conducting reviews.

The PV Program Peer Review during FY 2001 builds extensively on ongoing review processes and will address activities up to this point in Fiscal Year (FY) 2001 (Government's Fiscal Year is from October 1st through September 30th). Additional information on DOE's PV Program can be obtained at www.eren.doe.gov/pv/.

The goals of the PV Program Peer Review are to obtain input from DOE recognized experts from the research, technology and business communities. This independent and objective panel will convene to provide input for improving PV Program decision making of program priorities and balance, and improving the technical quality and relevance of research activities. The review will cover a representative group of projects supported by the PV Program in FY 2001. The review meeting is open to the public to attend and observe. Attendance is free of charge.

Issued in Golden, Colorado, on July 5, 2001.
Matthew A. Barron,
Acting Director, Office of Acquisition and Financial Assistance.

[FR Doc. 01-17822 Filed 7-16-01; 8:45 am]

BILLING CODE 6450-01-P